DEPARTMENT OF COMMERCE

National Oceanic and Atmospheric Administration

[Docket Number: 080108032-8033-01]

Science Advisory Board; The Preliminary Report of the NOAA Science Advisory Board, Extension, Outreach and Education Working Group

AGENCY: Office of Oceanic and Atmospheric Research (OAR), National Oceanic and Atmospheric Administration (NOAA), Department of Commerce (DOC).

ACTION: Notice of availability and request for public comment.

SUMMARY: NOAA Research (OAR) publishes this notice on behalf of the NOAA Science Advisory Board (SAB) to announce the availability of the preliminary report of the SAB Extension, Outreach, and Education Working Group's (here called the EOEWG) external review of NOAA's activities in extension, outreach and education activities for public comment. The preliminary report of the EOEWG has been prepared pursuant to the request initiated by the NOAA Science Advisory Board, and approved by the Under Secretary of Commerce for Oceans and Atmosphere, for an external panel of experts to conduct a review of NOAA's extension, outreach and education programs and provide advice to NOAA on ways to strengthen, coordinate, organize and improve its extension, outreach and education activities to fully engage its constituents.

DATES: Comments on this preliminary report must be received by 5 p.m. EDT on February 15, 2008.

ADDRESSES: The Preliminary Report of the EOEWG will be available on the NOAA Science Advisory Board Web site at http://www.sab.noaa.gov/Reports/EOEWG.

The public is encouraged to submit comments electronically to noaa.sab.comments@noaa.gov. For individuals who do not have access to the Internet, comments may be submitted in writing to: NOAA Science Advisory Board (SAB) c/o Dr. Cynthia Decker, 1315 East-West Highway-R/SAB, Silver Spring, Maryland 20910.

FOR FURTHER INFORMATION CONTACT: Dr. Cynthia Decker, Executive Director, Science Advisory Board, NOAA, 1315 East-West Highway-R/SAB, Silver Spring, Maryland 20910. (Phone: 301-734-1156, Fax: 301-734-1459, E-mail: Cynthia.Decker@noaa.gov) during normal business hours of 9 a.m. to 5 p.m. Eastern Time, Monday through Friday, or visit the NOAA SAB Web site at http://www.sab.noaa.gov.

SUPPLEMENTARY INFORMATION: The preliminary report of the EOEWG has been drafted pursuant to the request initiated by the NOAA Science Advisory Board and approved by the Under Secretary of Commerce for Oceans and Atmosphere to conduct an external review of NOAA's extension, outreach and education activities. This report was prepared in response to the charge to the working group to explore opportunities to enhance the impact of NOAA's extension, outreach and education activities with its constituents, including, but not limited to, the following:

1. Define NOAA's purpose and unique role in extension, outreach, and education.

2. Identify opportunities at different levels of geographic granularity (e.g., local, state, regional, national, and international).

3. Identify opportunities for NOAA's research enterprise to better connect with constituencies through extension, outreach, and education.

4. Review the legislative authorities of NOAA in extension, outreach, and education and the opportunities to expand these authorities.

5. Explore the communication paths between NOAA and its constituents with the goal to improve channels and enhance processes.

6. Cite best management practices and examples that could be broadly utilized within NOAA.

7. Review training opportunities and funding support for NOAA programs and staff involved in extension, outreach, and education.

The SAB is chartered under the Federal Advisory Committee Act and is the only Federal Advisory Committee with the responsibility to advise the Under Secretary on long- and short-term strategies for research, education, and application of science to resource management and environmental assessment and prediction.

NOAA welcomes all comments on the content of the preliminary report. We also request comments on any inconsistencies perceived within the report, and possible omissions of important topics or issues. This preliminary report is being issued for comment only and is not intended for interim use. For any shortcoming noted within the preliminary report, please propose specific remedies. Suggested changes will be incorporated where appropriate, and a final report will be posted on the SAB Web site.

Please follow these instructions for preparing and submitting comments. Using the format guidance described below will facilitate the processing of comments and assure that all comments are appropriately considered. Overview comments should be provided first and should be numbered. Comments that are specific to particular pages, paragraphs or lines of the section should follow any overview comments and should identify the page and line numbers to which they apply. Please number each page of your comments.

Dated: January 10, 2008.
Mark E. Brown,
Chief Financial Officer, Office of Oceanic and Atmospheric Research, National Oceanic and Atmospheric Administration.

[FR Doc. E8-704 Filed 1-15-08; 8:45 am]

BILLING CODE 3510-KD-P